DEPARTMENT OF COMMERCE

International Trade Administration

[A-580-839, A-583-833]

Certain Polyester Staple Fiber From the Republic of Korea and Taiwan: Continuation of Antidumping Duty Orders

AGENCY: Enforcement and Compliance, International Trade Administration, Department of Commerce.

SUMMARY: As a result of the determinations by the Department of Commerce (the Department) and the International Trade Commission (ITC) that revocation of the antidumping duty (AD) orders on certain polyester staple fiber from the Republic of Korea (Korea) and Taiwan would likely lead to a continuation or recurrence of dumping and material injury to an industry in the United States, the Department is publishing this notice of continuation of the AD orders.

DATES: Effective February 10, 2017.

FOR FURTHER INFORMATION CONTACT: Mary Kolberg, Office I, AD/CVD Operations, Enforcement and Compliance, International Trade Administration, U.S. Department of Commerce, 1401 Constitution Avenue NW., Washington, DC 20230; telephone: (202) 482-1785.

SUPPLEMENTARY INFORMATION:

Background

On May 25, 2000, the Department published the AD Orders on polyester staple fiber from Korea and Taiwan.¹ On August 1, 2016, the Department published the notice of initiation of the third sunset review of the AD Orders on polyester staple fiber from Korea and Taiwan, pursuant to section 751(c) of the Tariff Act of 1930, as amended (the Act).² As a result of its review, the Department determined that revocation of the AD Orders would likely lead to a continuation or recurrence of dumping.³ The Department, therefore, notified the ITC of the magnitude of the margins likely to prevail should the AD Orders be revoked. On January 18, 2017, the ITC determined that revoking the AD Orders on polyester staple fiber from Korea and Taiwan would be likely to lead to continuation or recurrence of material injury with a reasonably foreseeable time.⁴

¹ See Notice of Amended Final Determination of Sales at Less Than Fair Value: Certain Polyester Staple Fiber from the Republic of Korea and Antidumping Duty Orders: Certain Polyester Staple Fiber from the Republic of Korea and Taiwan, 65 FR 33807, 33808 (May 25, 2000); see also Certain Polyester Staple Fiber from Korea: Notice of Amended Final Determination and Amended Order Pursuant to Final Court Decision, 68 FR 74552, 74553 (December, 24, 2003) (AD Orders).

² See Initiation of Five-Year (“Sunset”) Review, 81 FR 50462 (August 1, 2016).

³ See Certain Polyester Staple Fiber from the Republic of Korea and Taiwan: Final Results of Expedited Sunset Review of the Antidumping Duty Orders, 81 FR 92783 (December 20, 2016), and accompanying Issues and Decision Memorandum.

⁴ See Polyester Staple Fiber from Korea and Taiwan, Inv. Nos. 731-TA-825-826 (Third Review), USITC Publication 4668, January 2017.

Scope of the Orders

Polyester staple fiber covered by the orders is defined as synthetic staple fibers, not carded, combed or otherwise processed for spinning, of polyesters measuring 3.3 decitex (3 denier, inclusive) or more in diameter. This merchandise is cut to lengths varying from one inch (25 mm) to five inches (127 mm). The merchandise subject to the orders may be coated, usually with a silicon, or other finish, or not coated. Polyester staple fiber is generally used as stuffing in sleeping bags, mattresses, ski jackets, comforters, cushions, pillows, and furniture. Merchandise of less than 3.3 decitex (less than 3 denier) currently classifiable in the Harmonized Tariff Schedule of the United States (“HTSUS”) at subheading 5503.20.00.25 is specifically excluded from the orders. Also, specifically excluded from the orders are polyester staple fibers of 10 to 18 denier that are cut to lengths of 6 to 8 inches (fibers used in the manufacture of carpeting). In addition, low-melt polyester staple fiber is excluded from the orders. Low-melt polyester staple fiber is defined as a bi-component fiber with an outer sheath that melts at a significantly lower temperature than its inner core. The merchandise subject to the orders is currently classifiable in the HTSUS at subheadings 5503.20.00.45 and 5503.20.00.65. The HTSUS subheadings are provided for convenience and customs purposes only; the written description of the merchandise covered by the scope of the orders is dispositive.

Continuation of the Orders

As a result of the determinations by the Department and the ITC that revocation of the AD Orders would likely lead to continuation or recurrence of dumping and material injury to an industry in the United States, pursuant to section 751(d)(2) of the Act and 19 CFR 351.218(a), the Department hereby orders the continuation of the AD Orders on polyester staple fiber from Korea and Taiwan. U.S. Customs and Border Protection will continue to collect AD cash deposits at the rates in effect at the time of entry for all imports of subject merchandise.

The effective date of the continuation of the AD Orders will be the date of publication in the Federal Register of this notice of continuation. Pursuant to section 751(c)(2) of the Act, the Department intends to initiate the next five-year review of the AD Orders not later than 30 days prior to the fifth anniversary of the effective date of continuation.

This five-year sunset review and this notice are in accordance with section 751(c) of the Act and published pursuant to section 777(i)(1) of the Act and 19 CFR 351.218(f)(4).

Dated: February 7, 2017.
Ronald K. Lorentzen,
Acting Assistant Secretary for Enforcement and Compliance.

[FR Doc. 2017-02790 Filed 2-9-17; 8:45 am]

BILLING CODE 3510-DS-P